DEPARTMENT OF TRANSPORTATION

Pipeline and Hazardous Materials Safety Administration

49 CFR Part 172

[Docket Nos. PHMSA-2012-0027 (HM-215L)]

RIN 2137-AE87

Hazardous Materials: Harmonization with International Standards (RRR)

Correction

In rule document 2012-31243 appearing on pages 988 through 1100 in the issue of Monday, January 7, 2013, make the following correction:

§ 172.101 [Corrected]

On page 1051, the table should read in part as follows:

* * * * *

—
G | Chlorosilanes, toxic, corrosive, flammable, n.o.s | 6.1 | UN3362 | II | 6.1,8,3 | T14, TP2, TP7, TP13, TP27 | None | 206 | 243 | Forbidden | 30 L | C | 40, 125
G | Chlorosilanes, toxic, corrosive, n.o.s | 6.1 | UN3361 | II | 6.1, 8 | T14, TP2, TP7, TP13, TP27 | None | 206 | 243 | Forbidden | 30 L | C | 40
| * * * * * * *
G | Components, explosive train, n.o.s | 1.2B | UN0382 | II | 1.2B | 101 | None | 62 | None | Forbidden | Forbidden | 05 | 25
G | Components, explosive train, n.o.s | 1.4B | UN0383 | II | 1.4B | 101 | None | 62 | None | Forbidden | 75 kg | 05 | 25
G | Components, explosive train, n.o.s | 1.4S | UN0384 | II | 1.4S | 101 | None | 62 | None | 25 kg | 100 kg | 01 | 25
G | Components, explosive train, n.o.s | 1.1B | UN0461 | II | 1.1B | 101 | None | 62 | None | Forbidden | Forbidden | 05 | 25
| * * * * * * *
G | Contrivances, water-activated, with burster, expelling charge or propelling charge | 1.2L | UN0248 | II | 1.2L |  | None | 62 | None | Forbidden | Forbidden | 05 | 25, 14E, 15E, 17E
G | Contrivances, water-activated, with burster, expelling charge or propelling charge | 1.3L | UN0249 | II | 1.3L |  | None | 62 | None | Forbidden | Forbidden | 05 | 25, 14E, 15E, 17E
| * * * * * * *
A W | Copra | 4.2 | UN1363 | III | 4.2 | IB8, IP3, IP7 | None | 213 | 241 | Forbidden | Forbidden | A | 13, 25, 119

* * * * *

[FR Doc. C1-2012-31243 Filed 2-5-13; 8:45 am]

BILLING CODE 1505-01-P